DEPARTMENT OF ENERGY

Federal Energy Regulatory Commission

Combined Notice of Filings #1

December 18, 2007.

Take notice that the Commission received the following exempt wholesale generator filings:

Docket Numbers: EG08-23-000.

Applicants: Beech Ridge Energy LLC.

Description: Beech Ridge Energy LLC submits a notice of self-certification of its status as an exempt wholesale generator.

Filed Date: 12/12/2007.

Accession Number: 20071214-0017.

Comment Date: 5 p.m. Eastern Time on Wednesday, January 2, 2008.

Docket Numbers: EG08-24-000.

Applicants: Las Vegas Cogeneration LP.

Description: Notice of Self-Certification for exempt wholesale generator status.

Filed Date: 12/14/2007.

Accession Number: 20071214-5094.

Comment Date: 5 p.m. Eastern Time on Friday, January 4, 2008.

Take notice that the Commission received the following electric rate filings:

Docket Numbers: ER03-478-017; ER06-200-010; ER07-254-002; ER03-1326-010; ER07-460-001; ER05-534-011; ER05-365-011; ER05-1262-009; ER06-1093-005; ER03-296-013; ER01-3121-012; ER02-418-011; ER03-416-014; ER05-332-011; ER07-287-004; ER07-242-004; ER03-951-013; ER04-94-011; ER02-417-011; ER07-1378-001; ER05-1146-011; ER05-481-011; ER07-240-005; ER07-195-002; ER02-2085-006.

Applicants: PPM Energy Inc.; Big Horn Wind Project LLC; Casselman Windpower, LLC; Colorado Green Holdings, LLC; Dillon Wind LLC; Eastern Desert Power LLC; Elk River Windfarm LLC; Flat Rock Windpower LLC; Flat Rock Windpower II LLC; Flying Cloud Power Partners, LLC; Klamath Energy LLC; Klamath Generation LLC; Klondike Wind Power LLC; Klondike Wind Power II LLC; Klondike Wind Power III LLC; MinnDakota Wind LLC; Moraine Wind LLC; Mountain View Power Partners III, LLC; Phoenix Wind Power LLC; Providence Heights Wind, LLC; Shiloh I Wind Project LLC; Trimont Wind I LLC; Twin Buttes Wind LLC; Locust Ridge Wind Farm, LLC; Northern Iowa Windpower LLC.

Description: The Iberdrola Companies informs FERC that they have not erected barriers to entry and will not erect barriers to entry re PPM Energy Inc et al.

Filed Date: 12/11/2007.

Accession Number: 20071213-0040.

Comment Date: 5 p.m. Eastern Time on Wednesday, January 2, 2008.

Docket Numbers: ER03-765-006.

Applicants: Calpine Oneta Power, L.P.

Description: Calpine Oneta Power, LP's compliance filing of its revised Rate Schedule FERC 2.

Filed Date: 12/12/2007.

Accession Number: 20071213-0157.

Comment Date: 5 p.m. Eastern Time on Wednesday, January 2, 2008.

Docket Numbers: ER03-1331-005.

Applicants: Williams Power Company, Inc.

Description: Williams Gas Marketing, Inc. f/k/a Williams Power Company, Inc. submits Notice of Change in Status.

Filed Date: 12/11/2007.

Accession Number: 20071214-0009.

Comment Date: 5 p.m. Eastern Time on Wednesday, January 2, 2008.

Docket Numbers: ER05-349-004.

Applicants: Georgia Energy Cooperative.

Description: Georgia Energy Cooperative submits notice of non-material change in status, in compliance with Order 697.

Filed Date: 12/14/2007.

Accession Number: 20071217-0062.

Comment Date: 5 p.m. Eastern Time on Friday, January 4, 2008.

Docket Numbers: ER06-629-002.

Applicants: California Independent System Operator Corporation.

Description: California Independent System Operator Corp. submits its Small Generator Interconnection Procedures and on 12/17/07 submit a supplement to this filing.

Filed Date: 12/13/2007; 12/17/07.

Accession Number: 20071217-0058.

Comment Date: 5 p.m. Eastern Time on Thursday, January 3, 2008.

Docket Numbers: ER06-630-001.

Applicants: Pacific Gas and Electric Company.

Description: California Independent System Operator Corp. & Pacific Gas and Electric Co. et al. submits a Small Generator Interconnection Agreement.

Filed Date: 12/13/2007.

Accession Number: 20071217-0059.

Comment Date: 5 p.m. Eastern Time on Thursday, January 3, 2008.

Docket Numbers: ER07-357-002.

Applicants: Fenton Power Partners I, LLC.

Description: Fenton Power Partners I, LLC submits notice of non-material change in status related to a change in its upstream ownership.

Filed Date: 12/12/2007.

Accession Number: 20071213-0158.

Comment Date: 5 p.m. Eastern Time on Wednesday, January 2, 2008.

Docket Numbers: ER07-943-001.

Applicants: Black Hills Power, Inc.

Description: Black Hills Power, Inc and Cheyenne Light, Fuel and Power Co submits additional information as a supplement to their 5/29/07 filing of a Generator Dispatch and Energy Management Agreement.

Filed Date: 12/13/2007.

Accession Number: 20071214-0086.

Comment Date: 5 p.m. Eastern Time on Wednesday, December 26, 2007.

Docket Numbers: ER07-1071-003; ER07-1072-003.

Applicants: PJM Interconnection, LLC; Virginia Electric and Power Company.

Description: Virgina Electric and Power Company submits executed amended service agreement containing the terms and conditions of wholesale distribution service to Emporia Hydropower Limited Partnership.

Filed Date: 12/12/2007.

Accession Number: 20071214-0008.

Comment Date: 5 p.m. Eastern Time on Wednesday, January 2, 2008.

Docket Numbers: ER07-1317-002.

Applicants: Citizens Electric Co. of Lewisburg.

Description: Citizens' Electric Company of Lewisburg, PA submits Exhibit A—revised FERC Electric Tariff, Original Volume 1.

Filed Date: 12/13/2007.

Accession Number: 20071217-0065.

Comment Date: 5 p.m. Eastern Time on Thursday, January 3, 2008.

Docket Numbers: ER07-1318-002.

Applicants: Wellsboro Electric Company.

Description: Wellsboro Electric Company submits Exhibit A—Revised FERC Electric Tariff, Original Volume 1.

Filed Date: 12/13/2007.

Accession Number: 20071217-0068.

Comment Date: 5 p.m. Eastern Time on Thursday, January 3, 2008

Docket Numbers: ER07-1330-002.

Applicants: Twin Cities Hydro LLC.

Description: Twin Cities Hydro, LLC submits a response to questions posed by the Commission Staff on 11/13/07.

Filed Date: 12/13/2007.

Accession Number: 20071217-0060.

Comment Date: 5 p.m. Eastern Time on Thursday, January 3, 2008.

Docket Numbers: ER07-1335-002.

Applicants: Santa Rosa Energy Center, LLC.

Description: Santa Rosa Energy Center, LLC submits Substitute First Revised Sheet 2 to its FERC Electric Tariff 1.

Filed Date: 12/12/2007.

Accession Number: 20071214-0002.

Comment Date: 5 p.m. Eastern Time on Wednesday, January 2, 2008.

Docket Numbers: ER07-1375-001.

Applicants: Midwest Independent Transmission System Operator, Inc.

Description: Midwest Independent Transmission System Operator, Inc submits five copies of the information requested in the FERC 11/13/07 deficiency letter.

Filed Date: 12/13/2007.

Accession Number: 20071217-0099.

Comment Date: 5 p.m. Eastern Time on Thursday, January 3, 2008.

Docket Numbers: ER07-1387-001.

Applicants: Maine Electric Power Company, Inc.

Description: Maine Electric Power Company Inc. et al. submits a revised version of Attachment H—MEPCO Grandfathered Transmission Service Agreements of the ISO New England Open Access Transmission Tariff.

Filed Date: 12/13/2007.

Accession Number: 20071217-0067.

Comment Date: 5 p.m. Eastern Time on Thursday, January 3, 2008.

Docket Numbers: ER07-1419-001; ER07-1423-001.

Applicants: PacifiCorp.

Description: PacifiCorp's response to FERC's questions & request for additional details & clarification regarding the notice of cancellation of a firm point-to-point transmission service agreement w/Black Hills Power, Inc.

Filed Date: 12/12/2007.

Accession Number: 20071213-0156.

Comment Date: 5 p.m. Eastern Time on Wednesday, January 2, 2008.

Docket Numbers: ER08-38-003.

Applicants: Northern Renewable Energy (USA) Ltd.

Description: Northern Renewable Energy (USA) Ltd submits a change in status.

Filed Date: 12/07/2007.

Accession Number: 20071214-0003.

Comment Date: 5 p.m. Eastern Time on Friday, December 28, 2007.

Docket Numbers: ER08-68-001.

Applicants: Virginia Electric and Power Company

Description: Virginia Electric & Power Co. dba Dominion Virginia Power submits amendment to amended filing of 10/17/07 agreement for the purchase of electricity for resale with Virginia Municipal Electric Association 1.

Filed Date: 12/12/2007.

Accession Number: 20071213-0159.

Comment Date: 5 p.m. Eastern Time on Wednesday, January 2, 2008.

Docket Numbers: ER08-293-001.

Applicants: Forward Windpower, LLC.

Description: Forward WindPower LLC submits revised pivotal supplier and market share screen analyses based on 2006 data for PJM Interconnection LLC.

Filed Date: 12/14/2007.

Accession Number: 20071217-0064.

Comment Date: 5 p.m. Eastern Time on Friday, January 4, 2008.

Docket Numbers: ER08-297-001.

Applicants: Lookout Windpower, LLC.

Description: Lookout Windpower LLC submits its revised pivotal supplier and market share screen analyses based on 2006 data for PJM Interconnection LLC.

Filed Date: 12/14/2007.

Accession Number: 20071217-0063.

Comment Date: 5 p.m. Eastern Time on Friday, January 4, 2008.

Docket Numbers: ER08-326-000.

Applicants: Lehigh Capital, LLC.

Description: Lehigh Capital, LLC submits petition for acceptance of initial rate schedule, waivers and blanket authority.

Filed Date: 12/12/2007.

Accession Number: 20071213-0161.

Comment Date: 5 p.m. Eastern Time on Wednesday, January 2, 2008.

Docket Numbers: ER08-327-000.

Applicants: Niagara Mohawk Power Corporation.

Description: Niagara Mohawk Power Corp. submits the executed Electric Support Services Agreement w/Empire Generating Co., LLC.

Filed Date: 12/12/2007.

Accession Number: 20071213-0160.

Comment Date: 5 p.m. Eastern Time on Wednesday, January 2, 2008.

Docket Numbers: ER08-328-000.

Applicants: BE KJ LLC.

Description: BE KJ LLC submits Notification of Succession informing that they have succeeded Williams Gas Marketing, Inc formerly known as Williams Power Company, Inc as owner of its Rate Schedule FERC No. 3.

Filed Date: 12/10/2007.

Accession Number: 20071214-0007.

Comment Date: 5 p.m. Eastern Time on Monday, December 31, 2007.

Docket Numbers: ER08-329-000.

Applicants: BE Red Oak LLC.

Description: BE Red Oak LLC notifies FERC that with the closing of a transfer approved by FERC it is owner of Rate Schedule 2.

Filed Date: 12/10/2007.

Accession Number: 20071214-0006.

Comment Date: 5 p.m. Eastern Time on Monday, December 31, 2007.

Docket Numbers: ER08-330-000.

Applicants: ISO New England Inc.

Description: ISO New England Inc. submits its proposed revisions to re-designate the Procedure to Protect for the Loss of Phase II Imports as Attachment G to the ISO Tariff.

Filed Date: 12/07/2007.

Accession Number: 20071214-0005.

Comment Date: 5 p.m. Eastern Time on Friday, December 28, 2007.

Docket Numbers: ER08-331-000.

Applicants: Southwest Power Pool, Inc.

Description: Southwest Power Pool, Inc. submits an executed Service Agreement for Network Integration Transmission Service Agreement with American Electric Power Services Corporation et al.

Filed Date: 12/13/2007.

Accession Number: 20071214-0004.

Comment Date: 5 p.m. Eastern Time on Thursday, January 3, 2008.

Docket Numbers: ER08-332-000.

Applicants: Northwestern Corp.

Description: Northwestern Corp. submits their First Revised Tariff Sheets 74 and 75, which amended Schedule 3 of its Montana Open Access Transmission Tariff, FERC Electric Tariff, Seventh Revised Volume 5.

Filed Date: 12/17/2007.

Accession Number: 20071217-0061.

Comment Date: 5 p.m. Eastern Time on Monday, January 7, 2008.

Take notice that the Commission received the following electric securities filings:

Docket Numbers: ES08-5-001.

Applicants: Progress Energy Service Company LLC.

Description: Progress Energy Service Co., LLC on behalf of Carolina Power & Light Co. submits an amended application.

Filed Date: 12/12/2007.

Accession Number: 20071214-0013.

Comment Date: 5 p.m. Eastern Time on Wednesday, December 26, 2007.

Docket Numbers: ES08-8-001.

Applicants: FirstEnergy Service Company.

Description: Supplement to Application of FirstEnergy Service Company, et al., for Authorization to Issue Securities.

Filed Date: 12/14/2007.

Accession Number: 20071214-5056.

Comment Date: 5 p.m. Eastern Time on Wednesday, December 26, 2007.

Docket Numbers: ES08-14-000.

Applicants: New York State Electric & Gas Corp.

Description: Application of New York State Electric & Gas Corp for authorization to issue short-term debt under Section 204 of the Federal Power Act.

Filed Date: 12/12/2007.

Accession Number: 20071214-0011.

Comment Date: 5 p.m. Eastern Time on Wednesday, January 2, 2008.

Docket Numbers: ES08-15-000.

Applicants: Rochester Gas & Electric Corporation.

Description: Application of Rochester Gas & Electric Corp. for authorization to issue short-term debt under Section 204 of the Federal Power Act.

Filed Date: 12/12/2007.

Accession Number: 20071214-0010.

Comment Date: 5 p.m. Eastern Time on Wednesday, January 2, 2008.

Take notice that the Commission received the following open access transmission tariff filings:

Docket Numbers: OA08-31-001.

Applicants: NorthWestern Corporation.

Description: Amended Order No. 890 OATT Attachment K Filing of NorthWestern Corporation.

Filed Date: 12/11/2007.

Accession Number: 20071211-5018.

Comment Date: 5 p.m. Eastern Time on Wednesday, January 2, 2008.

Docket Numbers: OA08-54-000; OA08-55-000; OA08-56-000; OA08-57-000.

Applicants: Deseret Generation & Transmission Co-op.; Idaho Power Company; NorthWestern Corporation; PacifiCorp.

Description: Deseret Generation & Transmission Co-operative Inc, PacifiCorp et al. submits Agreements.

Filed Date: 11/30/2007.

Accession Number: 20071210-0041.

Comment Date: 5 p.m. Eastern Time on Friday, December 21, 2007.

Docket Numbers: OA08-59-000.

Applicants: Entergy Services, Inc.

Description: Entergy Operating Companies submits Attachment K to their Open Access Transmission Tariff, FERC Electric Tariff Third Revised Volume 3.

Filed Date: 12/07/2007.

Accession Number: 20071211-0050.

Comment Date: 5 p.m. Eastern Time on Friday, December 28, 2007.

Docket Numbers: OA08-60-000.

Applicants: Southwest Power Pool, Inc.

Description: Southwest Power Pool, Inc.'s Request for Waiver of Rollover Policy in Order No. 890 OATT.

Filed Date: 12/14/2007.

Accession Number: 20071214-5125.

Comment Date: 5 p.m. Eastern Time on Friday, January 4, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Direct.

[FR Doc. E8-482 Filed 1-14-08; 8:45 am]

BILLING CODE 6717-01-P